ENVIRONMENTAL PROTECTION AGENCY

40 CFR Part 437

[FRL-7601-3]

RIN 2040-AD95

Effluent Limitations Guidelines, Pretreatment Standards, and New Source Performance Standards for the Centralized Waste Treatment Point Source Category

AGENCY: Environmental Protection Agency.

ACTION: Final rule.

SUMMARY: The Environmental Protection Agency (EPA) is amending certain provisions of a wastewater discharge regulation for the Centralized Waste Treatment (CWT) Point Source Category. Today's action deletes the selenium limitations and standards from certain sections of Subpart A, the Metals Treatment and Recovery subcategory. In addition, it deletes the barium, molybdenum, antimony, and titanium limitations and standards from Subpart B, the Oils Treatment and Recovery subcategory. Further, this action deletes the molybdenum, antimony, aniline, and 2,3-dichloroaniline limitations and standards from the Organics Treatment and Recovery subcategory. This action also revises all applicable related sections of Subpart D, the Multiple Wastestream subcategory, to reflect the preceding revisions. Finally this action increases the maximum monthly average BOD5 limitation for directly discharging facilities subject to a section of the Multiple Wastestreams subcategory. EPA originally established wastewater discharge standards for CWT facilities in December 2000. Following publication of that rule, a number of CWT facilities petitioned EPA to reconsider the limitations and standards for certain pollutants. EPA evaluated the technology basis and other analyses and agreed with many of the suggested revisions. Today's action establishes those changes. As a result, facilities will not be required to comply with certain discharge standards that were erroneously included in the earlier regulation or for which EPA had incorrectly assessed the capability of the technology to achieve the removals.

DATES: This regulation shall become effective on December 22, 2003.

ADDRESSES: The administrative record is available for inspection and copying at the Water Docket, located at the EPA Docket Center (EPA/DC) in the basement of the EPA West Building, Room B-102, 1301 Constitution Ave., NW., Washington, DC. The rule and key supporting materials are also electronically available via EPA Dockets (Edocket) at http://www.epa.gov/edocket/ Edocket number OW-2003-0075 or at http://www.epa.gov/guide/cwt/.

FOR FURTHER INFORMATION CONTACT: Elwood H. Forsht, EPA Office of Water by phone at (202) 566-1025 or by e-mail at forsht.elwood@epa.gov. For information on how to get copies of this document and other related information see the SUPPLEMENTARY INFORMATION section.

SUPPLEMENTARY INFORMATION:

Table of Contents

I. General Information

II. Legal Authority

III. Overview of Effluent Limitations Guidelines and Standards for Centralized Waste Treatment

IV. Amendment to Remove Selenium Limitations from Certain Sections of the Metals Treatment and Recovery Subcategory

V. Amendment to Remove Barium, Molybdenum, Antimony, and Titanium Limitations from the Oils Treatment and Recovery Subcategory

VI. Amendment to Remove Molybdenum, Antimony, Aniline, and 2,3-Dichloroaniline Limitations from the Organics Treatment and Recovery Subcategory

VII. Amendment to Revise the Related Multiple Wastestreams Subcategory Segments

VIII. Summary of Today's Amendments

IX. Corrections and Edits to 40 CFR part 437

X. Good Cause for Making Today's Amendments Effective on December 22, 2003

XI. Statutory and Executive Order Reviews

I. General Information

A. What Entities Are Potentially Regulated by This Regulation?

Entities potentially regulated by this action include the following types of facilities that discharge pollutants directly or indirectly to U.S. waters.

Category | Examples of regulated entities | NAICS codes
Industry | Discharges from stand-alone waste treatment and recovery facilities receiving materials from off-site. These facilities may treat hazardous or non-hazardous waste, hazardous or non-hazardous wastewater, and/or used material from off-site, for disposal, recycling, or recovery | 56221, 562219.
| Certain discharges from waste treatment systems at facilities primarily engaged in other industrial operations. Industrial facilities that process their own, on-site generated, process wastewater with hazardous or non-hazardous wastes, wastewaters, and/or used material received from off-site, in certain circumstances, may be subject to this rule with respect to a portion of their discharge

This table is not intended to be exhaustive, but rather provides a guide for readers regarding entities likely to be regulated by this action. This table lists the types of entities that EPA is now aware could potentially be regulated by this action. Other types of entities not listed in the table could also be regulated. To determine whether your facility is regulated by this action, you should carefully examine the definitions and applicability criteria in §§ 437.1, 437.2, 437.10, 437.20, 437.30, and 437.40 of title 40 of the Code of Federal Regulations. If you have questions about the applicability of this action to a particular entity, consult the person listed in the preceding FOR FURTHER INFORMATION CONTACT section.

B. How Can I Get Copies of This Document and Other Related Information?

1. Docket. EPA has established an official public docket for this action under Docket ID No. OW-2003-0075. The official public docket consists of the documents specifically referenced in this action, any public comments received, and other information related to this action. The official public docket is the collection of materials that is available for public viewing at the Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Water Docket is (202) 566-2426. To view these docket materials, please call ahead to schedule an appointment. Every user is entitled to copy 266 pages per day before incurring a charge. The Docket may charge 15 cents a page for each page over the 266-page limit plus an administrative fee of $25.00.

2. Electronic Access. You may access this Federal Register document electronically through the EPA Internet under the “Federal Register” listings at http://www.epa.gov/fedrgstr/. An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in section I.B.1. Once in the system, select “search,” then key in the appropriate docket identification number.

C. What Process Governs Judicial Review for Today's Final Rule?

In accordance with 40 CFR 23.2, today's rule is considered promulgated for the purposes of judicial review as of 1 p.m. eastern daylight time, January 5, 2004. Under section 509(b)(1) of the Clean Water Act (CWA), judicial review of today's effluent limitations guidelines and standards may be obtained by filing a petition in the United States Circuit Court of Appeals for review within 120 days from the date of promulgation of these guidelines and standards. Under section 509(b)(2) of the CWA, the requirements of this regulation may not be challenged later in civil or criminal proceedings brought by EPA to enforce these requirements.

II. Legal Authority

The U.S. Environmental Protection Agency is promulgating these regulations under the authority of 33 U.S.C. 1311, 1314, 1316, 1317, 1318, 1342 and 1361.

III. Overview of Effluent Limitations Guidelines and Standards for Centralized Waste Treatment

Congress adopted the Clean Water Act (CWA) to “restore and maintain the chemical, physical, and biological integrity of the Nation's waters” (Section 101(a), 33 U.S.C. 1251(a)). To achieve this, the CWA prohibits the discharge of pollutants into navigable waters except in compliance with the statute. The CWA confronts the problem of water pollution on a number of different fronts. It relies primarily, however, on establishing restrictions on the types and amounts of pollutants discharged from various industrial, commercial, and public sources of wastewater.

Congress recognized that regulating only those sources that discharge effluent directly into the Nation's waters would not achieve the CWA's goals. Consequently, the CWA requires EPA to set nationally-applicable pretreatment standards that restrict pollutant discharges for those facilities that discharge wastewater indirectly through sewers flowing to publicly-owned treatment works (POTWs) (Section 307(b) and (c), 33 U.S.C. 1317(b) and (c)). National pretreatment standards are established for those wastewater pollutants that may pass through or interfere with POTWs operations. Generally, pretreatment standards are designed to ensure that wastewater from direct and indirect industrial dischargers are subject to similar levels of treatment. POTWs must also implement local pretreatment limits applicable to their industrial indirect dischargers to satisfy local requirements (40 CFR 403.5).

Direct dischargers must comply with effluent limitations through National Pollutant Discharge Elimination System (NPDES) permits; indirect dischargers must comply with pretreatment standards. These limitations and standards are established by regulation for categories of industrial dischargers and are based on the degree of control that can be achieved using various levels of pollution control technology.

On December 22, 2000, EPA published regulations establishing effluent limitations guidelines, pretreatment standards for new and existing sources, and new source performance standards for the Centralized Waste Treatment (CWT) Point Source Category (65 FR 81242). These regulations control the discharges from CWT facilities that receive waste, wastewater, or used material from off-site. EPA established limitations and standards for four CWT subcategories. The first three subcategories cover facilities that treat or recover only one type of waste, either metal-bearing (Subpart A—Metals Treatment and Recovery), oily (Subpart B—Oils Treatment and Recovery), or organic (Subpart C—Organics Treatment and Recovery). The fourth subcategory, Subpart D—Multiple Wastestreams, covers facilities that treat or recover some combination of metal-bearing, oily, and organic waste, wastewater, or used material received from off-site. Using Subpart D limitations and standards simplifies implementation of the rule and compliance monitoring for CWT facilities that treat wastes subject to more than one of the first three subcategories. These facilities may choose to comply with the provisions of the multiple wastestreams Subpart D rather than Subparts A, B, or C. However, they must certify that an equivalent treatment system is installed and properly designed, maintained, and operated.

After the Agency published the December 2000 final rule, facilities in the regulated community conducted compliance monitoring studies and began to develop compliance strategies for the regulated pollutants. Based on these efforts, several members of the regulated community and a trade association submitted new information to the Agency and asked EPA to revise certain aspects of the final rule. In September 2003, EPA proposed to amend the regulations to delete certain pollutants from those subject to effluent limitations guidelines and standards. (68 FR 53432, September 10, 2003). After our own analysis and review of comments received on the proposed amendment, EPA has determined that it should adopt the proposed modifications to the current rule as well as several additional modifications resulting from additional analyses in the organics subcategory.

IV. Amendment To Remove Selenium Limitations From Certain Sections of the Metals Treatment and Recovery Subcategory

For the Metals Treatment and Recovery subcategory, EPA proposed to amend 40 CFR part 437 by deleting from §§ 437.11, 437.13, 437.15 and 437.16 the respective Best Practicable Control Technology Currently Available (BPT), Best Available Technology Economically Achievable (BAT), Pretreatment Standards for Existing Sources (PSES), and Pretreatment Standards for New Sources (PSNS) limitations and standards for selenium. We are adopting the changes for the reasons explained below. Section VII describes the methodology used to revise the related segments of the Multiple Wastestreams subcategory to reflect deletion of selenium from the Metals Treatment and Recovery subcategory.

In the December 2000 final rule, EPA established, for the Metals Treatment and Recovery subcategory, direct discharge limitations and standards as well as pretreatment standards for selenium and 15 other metal pollutants. The model technology for the BPT, BAT, PSES, and PSNS limitations and standards was primary chemical precipitation, liquid-solid separation, secondary chemical precipitation, clarification, and sand filtration. Following promulgation of the final rule, EPA received information indicating that the model technology that was the basis for the limitations and standards for existing sources would not remove selenium from wastewater consistently to the level required by the regulation. Based on the Agency's review of this information, EPA agrees and has concluded that it should delete selenium from the regulated metals for this subcategory. (EPA did not reassess its New Source Performance Standards (NSPS) for selenium because the standards are based on a different model treatment system involving the use of selective metals precipitation.)

While the data in the record for the 2000 CWT regulation demonstrate that the technology EPA evaluated as the basis for the BPT, BAT, PSES, and PSNS limitations and standards removes selenium, they also show that selenium removal was achieved only in the last stage of the model treatment system—the sand filtration polishing step. The sand filtration polishing step was included in the model technology to ensure compliance with total suspended solids (TSS) limits and was not designed to achieve specific metal removals. While it is true that the removal of solids associated with sand filtration will also remove associated metals, these metals removals are not achieved at a consistent or predictable rate. EPA did not intend to regulate a metal for which removals were obtained only during this final, polishing step of an extended treatment train. The identified removals may be an artifact of the particular data set EPA evaluated, and the record does not demonstrate that selenium removals are achieved consistently and predictably with this technology. While removals were observed, EPA determined that facilities would not be able to achieve the consistent removals required for compliance with a specific regulatory limit for selenium. Commenters on the proposed amendment supported EPA's conclusions. Commenters' experience confirmed that the model technology would not achieve consistent and predictable high-percentage removal of selenium. The docket includes documents which describe EPA's review of the selenium data that form the basis for today's action (DCNs 47.1 and 47.2).

Although EPA is deleting the regulatory limits for selenium in the selected sections, operation of treatment systems required to achieve compliance with the 14 other metals limits will ensure some continued removal of selenium, even if not at a consistent and predictable rate. Even without incidental removals for selenium, the estimated pollution reduction for this regulation remains relatively unchanged from the December 2000 estimates. Specifically, the decrease in reductions would be only 398 pounds per year (lbs/yr) or 0.01 percent of the total estimated metals subcategory reduction of 3.17 million lbs/yr. Expressed as toxic pound-equivalents (lb-eq), the decrease as a result of assuming no selenium removals is 0.011 percent or 438 lb-eq/yr out of the total estimated metals subcategory reduction of 415,393 lb-eq/yr (DCN 48.1).

V. Amendment To Remove Barium, Molybdenum, Antimony, and Titanium Limitations From the Oils Treatment and Recovery Subcategory

In the December 2000 final rule, EPA established, for the Oils Treatment and Recovery subcategory, direct discharge limitations and standards for barium, molybdenum, antimony, and titanium as well as 18 other pollutants. It also established pretreatment standards for barium, molybdenum, and antimony as well as 11 other pollutants. The model technology used as the basis for the BPT, BAT, NSPS, and PSNS limitations and standards was emulsion breaking/gravity separation, secondary gravity separation, and dissolved air flotation (DAF). The PSES model technology was emulsion breaking/gravity separation, and DAF.

After EPA published the final rule, members of the regulated community evaluated different engineering strategies for complying with the promulgated limitations and standards. Several companies and a trade association submitted new information to EPA demonstrating that the model technology did not consistently remove certain pollutants from oils wastestreams. They reported to EPA that the limitations and standards were not technically achievable and petitioned EPA to delete these pollutants from the regulated parameters.

Based on the data submitted concerning metals removal and the model technology, EPA reexamined its model technology. As noted above, the model technology used for BPT, BAT, NSPS, and PSNS consists of emulsion breaking/gravity separation, secondary gravity separation, and DAF. During the DAF phase of treatment, surface active agents, coagulating agents, and polyelectrolytes are added to the wastewater, and the pH of the system is adjusted. The effect of adding coagulating agents and adjusting pH is to promote precipitation of metals and their consequent removal. Different metals are removed more effectively at different concentrations of coagulating agents and at different pH levels. EPA examined its database to identify which of the metal pollutants were removed consistently and predictably by the treatment system. Our review demonstrates that removals were not consistent and predictable for barium, molybdenum, antimony, and titanium. As a result, EPA is amending the regulations to remove the limitations and standards for these metal pollutants from Subpart B and to modify the related provisions of Subpart D to reflect these changes. In today's action, EPA is deleting BPT, BAT, and NSPS limitations and standards for barium, molybdenum, titanium, and antimony. EPA is also deleting PSES and PSNS standards for barium, molybdenum and antimony. (EPA had not promulgated pretreatment standards for titanium in the December 2000 rule.) Comments on the proposed amendment and EPA's record support these changes as explained in the following discussions.

Even though this amendment deletes the limitations and standards for these four metal pollutants, the control of other metal pollutants ensures some incidental removals for these parameters. For direct discharge facilities, limitations for nine other metals remain in place. For indirect discharge facilities, pretreatment standards for six other metals remain in place.

A. Barium

EPA is amending 40 CFR part 437 by deleting from §§ 437.21, 437.23, 437.24, 437.25 and 437.26 the respective BPT, BAT, NSPS, PSES, and PSNS limitations and standards for barium. Section VI describes the methodology used to revise the related segments of the Multiple Wastestreams subcategory to reflect deletion of barium from the Oils Treatment and Recovery subcategory.

EPA received information and data from several companies and a CWT trade association concerning barium concentrations in different types of waste receipts treated at CWT facilities. EPA evaluated this information and concluded that the model technology would not reliably and consistently remove barium to the limits required in the oils subcategory. The record includes the additional information provided to the Agency with the request for changes to the regulation and EPA's review of that information (DCNs 43.2.49, 43.2.51, 43.2.54, 43.2.60, 44.2, 44.2.1, 44.3, 45.29.1, and 47.7).

EPA based its determination on the information noted above and other information supplied by commenters. Petitioners and commenters noted that CWT facilities accept a variety of oily waste receipts that contain barium including used lubricating oils and greases and oil and gas extraction drilling fluids and brine. The information and data indicate that barium is usually precipitated as barium sulfate and that sedimentation, rather than dissolved air flotation, would provide more consistent barium removals.

EPA's single-stage DAF model treatment system was designed primarily to remove suspended solids and dispersed oil and grease from oily wastewater. The use of treatment chemicals effectively increases the efficiencies of DAF treatment systems in removing suspended solids and may also enhance the removal of metals (DCN 41.2, pages 8-13 to 15). The operating conditions of the model treatment technology in the final regulation included the addition of treatment chemicals (aluminum sulfate, caustic soda, and polymers). Use of aluminum sulfate (alum) precipitates barium sulfate which has a specific gravity 4.5 times heavier than water; the use of polymers flocculate suspended particles.

Because of the density of barium sulfate and the use of polymers, large floc formations would tend to sink, and smaller floc formations would tend to float. However, if colloidal suspensions are formed, DAF might be ineffective. Therefore, removing barium sulfate by DAF requires a careful balance between forming a large enough floc to be floated but not too large to sink. In these circumstances, EPA determined that the model DAF technology would not reliably and consistently provide the pollutant reductions that were used for the promulgated limitations. Thus, EPA proposed to remove the limitations and standards for barium from Subpart B and the associated provisions of Subpart D. EPA did not intend to regulate a pollutant in the oils waste receipts subcategory for which compliance could not be consistently and predictably achieved with the model DAF treatment system. Further analysis of EPA data and that supplied by commenters and others confirms EPA's conclusions about barium removals in the model DAF treatment system. As a consequence, EPA is modifying the limitations and standards to remove barium as a regulated pollutant.

Although EPA is deleting the regulatory limits for barium, operation of treatment systems required to achieve compliance with other metals limits will ensure some continued removal of barium, even if not at a consistent and predictable rate. Even without incidental removals for barium, the estimated pollutant reduction for this regulation remains relatively unchanged from the December 2000 estimates. Specifically, the oils subcategory pollutant reductions would decrease by 2,117 lbs/yr or 0.25 percent of the total estimated reduction of 859,988 lbs/yr if no barium removals were included. Expressed as toxic pound-equivalents, the decrease assuming no barium removals is less than 0.008 percent or 4 lb-eq/yr of the total estimated subcategory reduction of 52,603 lb-eq/yr (DCN 48.1).

B. Molybdenum, Antimony, and Titanium

EPA is amending 40 CFR part 437 by deleting the respective BPT, BAT, and NSPS limitations and standards for molybdenum, antimony, and titanium from §§ 437.21, 437.23, 437.24; and by deleting the respective PSES and PSNS standards for molybdenum and antimony from §§ 437.25 and 437.26. Section VI describes the methodology used to revise the related segments of the Multiple Wastestreams subcategory to reflect deletions of regulated pollutants.

As explained in the proposal, EPA's single-stage DAF model treatment system was designed primarily to remove suspended solids and dispersed oil and grease from oily wastewater. The use of treatment chemicals effectively increases the efficiencies of DAF treatment systems in removing suspended solids. It may also enhance the removal of metals (DCN 41.2, pages 8-13 to 15). The conditions under which the EPA's model treatment technology operated included adding treatment chemicals (aluminum sulfate, caustic soda, and polymer) with pH adjustments to relatively strong base levels between 9 to 11. These operating conditions optimize removals of the more traditional heavy metals including chromium, zinc, lead, nickel, copper, and cadmium.

As previously noted, after EPA published the December 2000 final rule, the regulated community evaluated several different engineering strategies for complying with the limitations and standards. Several companies and a CWT trade association submitted new information demonstrating that the model technology would not consistently remove certain pollutants from oils wastestreams. They reported that the antimony, molybdenum, and titanium limitations and standards were not technically achievable, petitioning EPA to delete these pollutants as regulated parameters. The docket includes the additional information and EPA's review of that information (DCNs 45.12.1, 45.12.2, 45.12.3, 45.12.4, 45.25, 45.25.2, 46.5.1, 46.5.2, 46.5.3, 46.10, 46.11, 46.12, 46.15, 46.21, and 47.5).

Based on the materials submitted, EPA reexamined its model technology and the removal data. The results led EPA to propose deleting the antimony, molybdenum, and titanium limitations and standards in the Oils Treatment and Recovery subcategory. Information and data submitted by commenters has further convinced the Agency that the oils subcategory model DAF treatment technology will not consistently meet the antimony, molybdenum, and titanium limitations and standards. The data demonstrate that optimum removals of antimony, molybdenum, and titanium require treatment with high concentrations of iron (ranging from 1,000 to 5,000 mg/l ). The data also demonstrate that optimum removals of antimony and molybdenum require pH adjustments to relatively strong acid levels between 4 to 5. To ensure compliance with the antimony, molybdenum, and titanium limitations and standards, many oily waste facilities would need to add a second-stage chemical precipitation step, operated at a relatively low pH (between 4 and 5) and/or add large quantities of iron (1,000 to 5,000 mg/l), followed by clarification or filtration.

EPA did not intend to regulate a pollutant in the oils waste receipts subcategory for which compliance requires the addition of uniquely designed chemical precipitation systems to the model technology. Based on the information and data provided, we conclude that many CWT facilities subject to Subpart B would not be able to comply with the antimony, molybdenum, and titanium limitations and standards through the use of the model DAF technology alone. EPA is therefore amending the regulation to remove the limitations and standards for these pollutants from Subpart B and revise the associated provisions of Subpart D.

Although EPA is deleting the regulatory limits for antimony, molybdenum, and titanium, operation of treatment systems required to achieve compliance with other metals limits will ensure some continued removal of antimony, molybdenum, and titanium, even if not at consistent and predictable rates. Even with no incidental removals for antimony, molybdenum, and titanium, the estimated oils subcategory pollutant reduction for this regulation remains relatively unchanged (the December 2000 estimated pollutant reductions would decrease by 7,832 lbs/yr or 0.91 percent of the total estimated reduction of 859,988 lbs/yr). Expressed as pollutant pound-equivalents, the decrease, assuming no antimony, molybdenum, and titanium removals, is about 2.89 percent or 1,519 lb-eq/yr out of the total estimated subcategory reduction of 52,603 lb-eq/yr (DCN 48.1).

VI. Amendment To Remove Molybdenum, Antimony, Aniline, and 2,3-Dichloroaniline Limitations From the Organics Treatment and Recovery Subcategory

EPA is amending 40 CFR Part 437 by deleting from §§ 437.31, 437.33, and 437.34 the respective BPT, BAT, and NSPS limitations and standards for molybdenum, antimony, aniline, and 2,3-dichloroaniline; and by deleting the respective PSES and PSNS standards for molybdenum and 2,3-dichloroaniline from §§ 437.35 and 437.36. Section VII describes the methodology used to revise the related segments of the Multiple Wastestreams subcategory to reflect deletions of regulated pollutants.

In the proposed amendment, EPA asked for comment on an issue raised by the National Oil Recyclers Association (NORA). NORA submitted information with a request that EPA delete the molybdenum limitations and standards from the Organics Treatment and Recovery subcategory and from the related sections of the Multiple Wastestreams subcategory (DCNs 45.32 and 45.33). NORA stated that many CWT organics subcategory facilities had molybdenum influent raw waste concentrations that are too high for effective biological treatment. Based on our assessment of the information and data, EPA indicated in the proposed amendment that it would probably delete the molybdenum limitations from the organics subcategory. We sought further information that showed that the model technology for the Organics Treatment and Recovery subcategory would not consistently and predictably remove molybdenum from wastestreams. EPA received additional information and data from commenters on this issue and has determined that it should remove molybdenum from the pollutants regulated in the Organics Treatment and Recovery subcategory (and related sections of the Multiple Wastestreams subcategory).

EPA had based the December 2000 effluent limitations and pretreatment standards for Subpart C—the Organics Treatment and Recovery subcategory—on the performance of one model facility that used the BPT/BAT model technology. That technology consists of equalization followed by biological treatment provided by a sequential batch reactor (SBR). EPA's analysis of information and data submitted by commenters and in the rulemaking record demonstrates, however, that well-designed and well-operated treatment systems at CWT facilities that use the BPT/BAT technology as the basis for the organics subcategory limitations and standards will not consistently and predictably remove molybdenum. Commenters asserted that EPA had erroneously selected molybdenum as a regulated pollutant because it had used data from the wrong influent sample point. Further, commenters asserted that EPA had improperly included in its determination influent data for one day of sampling for which it had no corresponding effluent data. Commenters concluded that, if EPA had applied its methodology to the proper data set from the correct sampling point, the Agency would not have selected molybdenum for regulation.

EPA has reexamined the data underlying its original determination of which pollutants should be regulated in the organics subcategory. The “Development Document for Effluent Limitations Guidelines and Standards for the Centralized Waste Treatment Industry—Final” describes the methodology EPA used to select regulated pollutants for this subcategory (DCN 41.2, Chapter 7). Among the criteria EPA had considered in selecting regulated pollutants was whether a pollutant was present in the influent wastewater at a treatable level and whether a pollutant was effectively removed by the model technology. Thus, selection of the influent sampling point can greatly influence whether a pollutant is regulated.

For today's action, EPA reviewed all of the information in the rulemaking record concerning the model sampled facility. EPA has realized that this facility used a more sophisticated treatment system than the model technology. Therefore, for the December 2000 final rule, EPA had relied on influent data that reflected additional treatment steps not included in the model technology.

EPA also reviewed its record to consider the comment that it should not include influent data from the last day of sampling at the model facility. EPA agrees with the comment because EPA does not have effluent data that corresponds to the last day of influent sampling at the model facility. Consequently, EPA cannot determine to what extent these influent pollutant concentrations were treated by the model technology on this day. As a result, it is appropriate to exclude the influent data from the last day of sampling in the analysis of treatment efficiency.

After revising the influent sampling point and deleting influent data from the last day of sampling, EPA found that the model technology did not effectively treat molybdenum. As a result, we are deleting molybdenum limitations and standards from the organics subcategory.

EPA also applied its pollutant selection methodology with the revised data sets to all pollutants regulated in the Organics subcategory. As a result of those analyses, we are also amending the limitations and standards for the Organics subcategory to delete antimony, aniline, and 2,3-dichloroaniline as regulated parameters. [DCN Section 48]

Although EPA is deleting the limits for molybdenum, antimony, aniline, and 2,3-dichloroaniline, compliance with other organics limitations and standards may still lead to incidental removals of these pollutants. Assuming no incidental removals, the organics subcategory pollutant reduction estimates for this regulation remain relatively unchanged from the December 2000 estimates. Specifically, the estimated organics subcategory pollutant reductions would decrease by 282 lbs/yr or 0.05 percent of the total estimated reduction of 611,283 lbs/yr if no molybdenum, antimony, aniline, and 2,3-dichloroaniline removals were included. Expressed as toxic pound-equivalents, the decrease is about 0.23 percent or 46 lb-eq/yr out of the total estimated subcategory reduction of 19,976 lb-eq/yr (DCN 48.1).

Finally, this analysis does not affect the actual numerical limitations and standards for the remaining regulated pollutants in the organics subcategory—it affects only the selection of regulated pollutants. EPA based the numerical limitations and standards only on effluent data. EPA has concluded that, because it properly selected the effluent sampling point at the model facility, the numerical limitations and standards for the remaining regulated pollutants do not change.

VII. Amendment To Revise the Related Multiple Wastestreams Subcategory Segments

In the December 2000 final rule, EPA established limitations and standards for facilities that treat a combination of metal-bearing, oily or organic waste, wastewater or used material. Use of these Multiple Wastestreams subcategory limitations and standards simplifies implementation of the rule and compliance monitoring for CWT facilities that treat wastes subject to more than one of the other subcategories. These facilities may elect to comply with the provisions of the Multiple Wastestreams subcategory rather than the applicable individual provisions of the metals, oils, and organics treatment and recovery subcategories in the circumstances described in 40 CFR 437.40.

EPA developed four sets of limitations for each of the possible combinations of the three subcategories of wastestreams. These are mixtures of:

• Metal-bearing, oils, and organics waste receipts,

• Metal-bearing and oils waste receipts,

• Metal-bearing and organics waste receipts, and

• Oils and organics waste receipts.

To derive these limitations and standards, EPA combined pollutant limitations and standards from each possible combination of subcategories, selecting the most stringent pollutant values where they overlap. (For each pollutant, EPA selected the most stringent maximum monthly average limitations and its corresponding maximum daily limitation.) For example, in the December 2000 rule, antimony is regulated under (i.e., overlaps) Subparts A, B, and C. Therefore, the antimony Subpart D limitations for mixtures of Subparts A, B, and C wastestreams are based on Subpart B, the most stringent antimony limitations.

Today's action modifies the Multiple Wastestreams subcategory limitations and standards to reflect the removal of selenium from the Metals subcategory limitations and standards; the removal of barium, molybdenum, antimony, and titanium from the Oils Treatment and Recovery subcategory; and the removal of molybdenum, antimony, aniline, and 2,3-dichloroaniline from the Organics Treatment and Recovery subcategory.

A. Selenium

EPA is amending 40 CFR part 437 by deleting the respective BPT, BAT, PSES, and PSNS limitations and standards for selenium from §§ 437.42(b), (c), and (d); 437.44(b), (c), and (d); 437.46(b), (c), and (d); and 437.47(b), (c), and (d). Because selenium was regulated in the Metals Treatment and Recovery subcategory but not in the Oils or Organics Treatment and Recovery Subcategories, there are no overlapping limitations for this pollutant. Therefore, the result of deleting selenium from the BPT, BAT, PSES, and PSNS segments of the metals subcategory (see Section IV) is that selenium limitations and standards remain only for the New Source Performance Standards (NSPS) segment of the Multiple Wastestreams subcategory. The selenium NSPS standards are based on a different model treatment system involving the use of selective metals precipitation.

B. Barium

EPA is amending 40 CFR part 437 by deleting the respective BPT, BAT, NSPS, PSES, and PSNS limitations and standards for barium in the Oils Treatment and Recovery subcategory from §§ 437.42(b), (c), and (e); 437.44(b), (c), and (e); 437.45(b), (c), and (e); 437.46(b), (c), and (e); and 437.47(b), (c), and (e). Because barium was only regulated in the Oils Treatment and Recovery subcategory but not in the Metals or Organics Treatment and Recovery Subcategories, there are no overlapping limitations for this pollutant. Therefore, the result of deleting barium from the oils subcategory (see Section V) is that there are no barium limitations and standards for any segment of the Multiple Wastestreams subcategory.

C. Molybdenum

EPA is amending 40 CFR part 437 by deleting the respective BPT, BAT, NSPS, PSES, and PSNS limitations and standards for molybdenum from §§ 437.42(b), (c), (d), and (e); 437.44(b), (c), (d), and (e); 437.45(b), (c), (d), and (e); 437.46(b), (c), (d), and (e); and 437.47(b), (c), (d), and (e). EPA originally promulgated molybdenum limitations for the Oils Treatment and Recovery subcategory and the Organics Treatment and Recovery subcategory but not in the Metals Treatment and Recovery subcategory. Therefore, the result of deleting molybdenum from the Oils Treatment and Recovery subcategory and the Organics Treatment and Recovery subcategory (see Section V) is that there are no molybdenum limitations and standards for any segment of the Multiple Wastestreams subcategory.

D. Antimony

EPA is amending 40 CFR part 437 by deleting the respective BPT, BAT, NSPS, PSES and PSNS standards for antimony from §§ 437.42(e), 437.44(e), 437.45(e), 437.46(e) and 437.47(e), and by revising the respective BPT, PSES, and PSNS limitations and standards for antimony in §§ 437.42(b) and (c), 437.46(b) and (c), and 437.47(b) and (c).

Because antimony was originally regulated for indirect discharges only in the Metals and Oils Treatment and Recovery Subcategories but not in the Organics Treatment and Recovery subcategory and EPA is deleting antimony from the Oils Treatment and Recovery subcategory, there are PSES and PSNS standards for this pollutant only in the Metals subcategory. The antimony standards in the related indirect discharge segments of the Multiple Wastestreams subcategory are, therefore, based on the Metals subcategory limitations.

In the December 2000 rule, EPA regulated antimony for direct discharges in the Metals, Oils, and Organics Treatment and Recovery Subcategories. As the result of today's action, there are BPT, BAT, and NSPS limitations and standards for this pollutant only in the Metals subcategory. Therefore, the BPT, BAT, and NSPS antimony limitations and standards in the related direct discharge segments of the Multiple Wastestreams subcategory are based on the Metals subcategory limitations.

E. Titanium

EPA is amending 40 CFR part 437 by deleting the respective BPT, BAT, and NSPS limitations and standards for titanium in §§ 437.42(e), 437.44(e), and 437.45(e), and by revising the respective BPT limitations for titanium in paragraphs §§ 437.42(b) and (c). Because EPA has deleted titanium from the pollutants regulated for direct discharges in the Oils Treatment and Recovery subcategories, the only remaining subcategory for which it is a regulated parameter is the Metals subcategory. Therefore the BPT, BAT, and NSPS titanium limitations and standards in the related direct discharge segments of the Multiple Wastestreams subcategory are now based on the titanium limitations and standards in the Metals subcategory.

F. Aniline

EPA is amending 40 CFR part 437 by deleting the respective BPT, BAT, and NSPS limitations and standards for aniline in the Organics Treatment and Recovery subcategory from §§ 437.42(b), (d), and (e); 437.44(b), (d), and (e); and 437.45(b), (d), and (e). Because aniline was only regulated for direct dischargers in the Organics Treatment and Recovery subcategory but not in the Metals or Oils Treatment and Recovery Subcategories, there are no overlapping limitations for this pollutant. Therefore, the result of deleting aniline from the organics subcategory (see Section VI) is that there are no aniline limitations and standards for any segment of the Multiple Wastestreams subcategory.

G. 2,3-Dichloroaniline

EPA is amending 40 CFR part 437 by deleting the respective BPT, BAT, NSPS, PSES, and PSNS limitations and standards for 2,3-dichloroaniline in the Organics Treatment and Recovery subcategory from §§ 437.42(b), (d), and (e); 437.44(b) and (e); 437.45(b), (d), and (e); 437.46(b), (d), and (e); and 437.47(b), (d), and (e). Because 2,3-dichloroaniline was only regulated in the Organics Treatment and Recovery subcategory but not in the Metals or Oils Treatment and Recovery Subcategories, there are no overlapping limitations for this pollutant. Therefore, the result of deleting 2,3-dichloroaniline from the organics subcategory (see Section VI) is that there are no 2,3-dichloroaniline limitations and standards for any segment of the Multiple Wastestreams subcategory.

VIII. Summary of Today's Amendments

The Agency is deleting certain limitations and standards for selenium from the metals subcategory; for antimony, barium, molybdenum, and titanium from the oils subcategory; and for antimony, molybdenum, aniline, and 2,3-dichloroaniline from the organics subcategory. Today's rule also reflects these changes in the multiple wastestreams subcategory. The model technologies that provide the basis for the metals and oils subcategory limitations and standards do not consistently and predictably remove these pollutants to the specified levels. Furthermore, based on the revised analyses in the organics subcategory, four pollutant parameters do not meet the criteria for regulation (whether pollutants are present in influent wastewater at treatable levels and whether pollutants are effectively removed by the model technology). Nevertheless, using treatment systems required for compliance with other pollutant limits will ensure some continued removal of these seven pollutants, even if not at consistent and predictable rates.

Even if there were no incidental removals for these pollutants, the estimated pollutant reduction for this regulation remains relatively unchanged from the December 2000 estimated pollutant reductions. At most, the pollutant reductions would decrease by 10,629 lbs/yr, or 0.23 percent of the total estimated reduction of 4,642,635 lbs/yr. Expressed as toxic pound-equivalents, the decrease assuming no removals for these pollutants is 0.41 percent or 2,006 lb-eq/yr out of the total estimated reduction of 487,872 lb-eq/yr (DCN 48.1).

Even though EPA believes that possible increases in pollutant discharges will not result in significant environmental effects, we will continue to monitor the discharges from this industry as part of the biennial Effluent Guidelines Program Plans required under Section 304(m) of the Clean Water Act.

IX. Corrections and Edits to 40 CFR Part 437

EPA is correcting a technical error contained in the December 22, 2000 final rule. The Federal Register publication of the final rule (65 FR 81241) contained an error in § 437.42(d) for the maximum monthly average BOD5 limitation for direct discharging facilities subject to the Multiple Wastestreams subcategory for combined metals and organics waste receipts. The BOD5 maximum monthly average limitation is revised from 3.0 mg/l to 53.0 mg/l. This reflects the limitation in the final rule signed by the Administrator on August 28, 2000. The correct 53.0 mg/l BOD5 limitation for this segment may also be found in the “Development Document for Effluent Limitations Guidelines and Standards for the Centralized Waste Treatment Industry—Final,” (EPA 821-R-00-020, DCN 41.2) as well as in the supporting information and analyses in the record.

In addition, the “Authority” citation is revised to conform with current guidance from the Federal Register Office.

X. Good Cause for Making Today's Amendments Effective on December 22, 2003

Section 553(d) of the Administrative Procedure Act generally provides that a final rule may not be effective sooner than 30 days after it is published. Section 553(d)(3), however, provides that an agency may make a final rule effective in less than 30 days after publication for “good cause found and published with the rule.” The purpose of this provision is to provide affected parties a reasonable time to prepare for the effective date of the rule or take such other action as needed. The legislative history of this provision indicates that it was not intended to unduly hamper agencies from making a rule effective immediately or at some time earlier than 30 days. The exercise of the “good cause” exception, however, requires legitimate grounds supported in law and fact. Legitimate grounds would include an “urgency of conditions coupled with demonstrated and unavoidable limitations of time.” The primary consideration is the convenience or necessity of the people affected. See Northern Arapahoe Tribe v. Hodel, 808F.2d 741, 752 (10th Cir. 1987) citing, United States v. Gavrilovic, 551 F.2d 1099, 1104 (8th Cir. 1977). EPA has determined that there is good cause for making today's amendments effective on December 22, 2003 for two reasons.

First, the changes would relieve direct and indirect dischargers from the legal obligation to comply with effluent limitations and pretreatment standards for certain pollutants that the Agency either erroneously determined should be regulated or incorrectly assessed the capability of the model technology to achieve the required removals. In these circumstances, immediate relief from the former limitations and standards is warranted.

Second, existing indirect dischargers are required to comply with the promulgated pretreatment standards by December 22, 2003. Delaying the effective date for 30 days could result in the contemplated changes not being effective before the required compliance date, possibly exposing some indirect dischargers to enforcement action for violation of standards that will be superseded. These circumstances constitute the requisite urgency of condition coupled with limitations of time to warrant good cause for making today's rule effective on December 22, 2003.

XI. Statutory and Executive Order Reviews

A. Executive Order 12866: Regulatory Planning and Review

Under Executive Order 12866 [58 FR 51735, (October 4, 1993)], the Agency must determine whether a regulatory action is “significant” and therefore subject to Office of Management and Budget (OMB) review and the requirements of the Executive Order. The Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

It has been determined that this rule is not a “significant regulatory action” under the terms of Executive Order 12866 and is therefore not subject to OMB review.

B. Paperwork Reduction Act

This action does not impose an information collection burden under the provisions of the Paperwork Reduction Act, 44 U.S.C. 3501 et. seq. It merely deletes the limitations for seven pollutants from certain provisions of the current rule and corrects a limitation for another pollutant that was incorrectly transcribed from the version signed by the EPA Administrator. Consequently, today's rule does not establish any new information collection burden on the regulated community.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to a collection of information unless it displays a currently valid OMB control number. The OMB control numbers for EPA's regulations in 40 CFR are listed in 40 CFR part 9.

C. Regulatory Flexibility Act

The Regulatory Flexibility Act (RFA), as amended by the Small Business Regulatory Enforcement Fairness Act of 1996 (SBREFA), 5 U.S.C. 601 et seq., generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rule on small entities, small entity is defined as: (1) A small business with gross revenue under $6 million (based on Small Business Administration size standards); (2) a small governmental jurisdiction that is a government of a city, county, town, school district or special district with a population less than 50,000; and (3) a small organization that is any not-for-profit enterprise which is independently owned and operated and is not dominant in its field.

After considering the economic impacts of today's final rule on small entities, I certify that this action will not have a significant economic impact on a substantial number of small entities. The rule removes or revises the limitations and standards for seven pollutants from certain provisions of the current rule and corrects an error in another provision. These changes reduce the economic impacts of the regulation on those entities, including small entities, subject to the limitations and pretreatment standards. The estimated reduction in the analytical laboratory costs of compliance is about $500,000 (DCN 47.6). The change to the BOD5 limitation will result in no change in economic burden because this modification merely corrects the limitation to reflect the BOD5 limitation in the December 2000 version of the regulation.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective, or least burdensome alternative that achieves the objectives of the rule. The provisions of section 205 do not apply when they are inconsistent with applicable law. Moreover, section 205 allows EPA to adopt an alternative other than the least costly, most cost-effective, or least burdensome alternative if the Administrator publishes with the final rule an explanation why that alternative was not adopted. Before EPA establishes any regulatory requirements that may significantly or uniquely affect small governments, including tribal governments, it must have developed, under section 203 of the UMRA, a small government agency plan. The plan must provide for notifying potentially affected small governments, enabling officials of affected small governments to have meaningful and timely input in the development of EPA regulatory proposals with significant Federal intergovernmental mandates, and informing, educating, and advising small governments on compliance with the regulatory requirements.

EPA has determined that this rule does not contain a Federal mandate that may result in expenditures of $100 million or more for State, local, and tribal governments, in the aggregate, or the private sector in any one year. It deletes or revises the limitations and standards for seven pollutants from certain provisions of the CWT guideline and corrects an inadvertent error in another limitation in the codified version of the current rule. The effect of these changes is to reduce the cost of the CWT regulations promulgated in December 2000. Thus, today's rule is not subject to the requirements of sections 202 and 205 of the UMRA.

For the same reason, EPA has determined that this rule contains no regulatory requirements that might significantly or uniquely affect small governments. The rule would not uniquely affect small governments because small and large governments are affected in the same way. Thus, today's rule is not subject to the requirements of section 203 of the UMRA.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. Today's rule would amend effluent limitations and pretreatment standards which impose requirements that apply to facilities when they discharge wastewater or introduce wastewater to a POTW. It deletes or revises the limitations and standards for seven pollutants from certain provisions of the CWT guideline and corrects an inadvertent error in another limitation in the codified version of the current rule. EPA has determined that there are no CWT facilities owned and/or operated by State or local governments that would be subject to today's rule. Further, the rule would only incidentally affect State and local governments in their capacity as implementers of CWA NPDES permitting programs and approved pretreatment programs. Thus, Executive Order 13132 does not apply to this rule. In the spirit of Executive Order 13132, and consistent with EPA policy to promote communications between EPA and State and local governments, EPA specifically solicited comment on the proposed rule from State and local officials. EPA received no comments from State and local officials.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” “Policies that have tribal implications” are defined in the Executive Order to include regulations that have “substantial direct effects on one or more Indian tribes, on the relationship between the Federal government and the Indian tribes, or on the distribution of power and responsibilities between the Federal government and Indian tribes.”

This final rule does not have tribal implications. It will not have substantial direct effects on tribal governments, on the relationship between the Federal government and Indian tribes or on the distribution of power and responsibilities between the Federal government and Indian tribes, as specified in Executive Order 13175. The rule deletes or revises the limitations and standards for seven pollutants from certain provisions of the current rule and corrects an inadvertent printing error in another section. EPA has not identified any CWT facilities covered by today's final rule that are owned and/or operated by Indian tribal governments. Thus, Executive Order 13175 does not apply to this rule. In the spirit of Executive Order 13175, and consistent with EPA policy to promote communications between EPA and tribal governments, EPA specifically solicited comment on the proposed rule from tribal officials. EPA received no comments from tribal officials.

G. Executive Order 13045: Protection of Children From Environmental Health Risks and Safety Risks

Executive Order 13045: “Protection of Children from Environmental Health Risks and Safety Risks” (62 FR 19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

This final rule is not subject to Executive Order 13045 because it is not economically significant as defined under Executive Order 12866. Further, this regulation does not concern an environmental health or safety risk that EPA has reason to believe may have a disproportionate effect on children.

H. Executive Order 13211: Actions That Significantly Affect Energy Supply, Distribution, or Use

This regulation is not subject to Executive Order 13211, “Actions Concerning Regulations That Significantly Affect Energy Supply, Distribution, or Use” (66 FR 28355, May 22, 2001) because it is not a significant regulatory action under Executive Order 12866.

I. National Technology Transfer and Advancement Act

As noted in the proposed rule, Section 12(d) of the National Technology Transfer and Advancement Act of 1995 (NTTAA), Public Law 104-113, section 12(d), (15 U.S.C. 272 note), directs EPA to use voluntary consensus standards in its regulatory activities unless to do so would be inconsistent with applicable law or otherwise impractical. Voluntary consensus standards are technical standards (e.g., materials specifications, test methods, sampling procedures, business practices) that are developed or adopted by voluntary consensus standards bodies. The NTTAA directs EPA to provide Congress, through the Office of Management and Budget (OMB), explanations when the Agency decides not to use available and applicable voluntary consensus standards.

This action does not involve technical standards. Therefore, EPA did not consider the use of any new voluntary consensus standards.

J. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective on December 22, 2003 for the reasons explained in Section X.

List of Subjects in 40 CFR Part 437

Environmental protection, Waste treatment and disposal, Water pollution control.

Dated: December 16, 2003.
Michael O. Leavitt,
Administrator.

For reasons set out in the preamble, 40 CFR chapter I is amended as follows:

PART 437—THE CENTRALIZED WASTE TREATMENT POINT SOURCE CATEGORY

1. The authority citation for part 437 is revised to read as follows:

Authority: 33 U.S.C. 1311, 1314, 1316, 1317, 1318, 1342, and 1361.

§ 437.11 [Amended]

2. Section 437.11(a) is amended by removing the entry for “Selenium” in the BPT Limitations table, under the heading “Metal Parameters”.

§ 437.13 [Amended]

3. Section 437.13(a) is amended by removing “selenium,”.

§ 437.15 [Amended]

4. Section 437.15(a) is amended by removing “selenium,”.

§ 437.16 [Amended]

5. Section 437.16(a) is amended by removing “selenium,”.

§ 437.21 [Amended]

6. Section 437.21 is amended by removing the following entries in the BPT Limitations table, under the heading “Metal Parameters”:

a. Antimony.

b. Barium.

c. Molybdenum.

d. Titanium.

§ 437.23 [Amended]

7. Section 437.23 is amended by removing the following words:

a. “antimony,”.

b. “barium,”.

c. “molybdenum,”.

d. “titanium,”.

§ 437.24 [Amended]

8. Section 437.24 is amended by removing the following words:

a. “antimony,”.

b. “barium,”.

c. “molybdenum,”.

d. “titanium,”.

§ 437.25 [Amended]

9. Section 437.25 is amended by removing the following entries in the Pretreatment Standards (PSES) table, under the heading “Metal Parameters”:

a. Antimony.

b. Barium.

c. Molybdenum.

§ 437.26 [Amended]

10. Section 437.26 is amended by removing the following words:

a. “antimony,”.

b. “barium,”.

c. “molybdenum,”.

§ 437.31 [Amended]

11. Section 437.31 is amended as follows:

a. In the BPT Limitations table by removing the following entries under the heading “Metal Parameters”:

i. Antimony.

ii. Molybdenum.

b. In the BPT Limitations table by removing the following entries under the heading “Organic Parameters”:

i. Aniline.

ii. 2,3-Dichloroaniline.

§ 437.33 [Amended]

12. Section 437.33 is amended by removing the following words:

a. “antimony,”.

b. “molybdenum,”.

c. “aniline,”.

d. “2,3,-dichloroaniline,”.

§ 437.34 [Amended]

13. Section 437.34 is amended by removing the following words:

a. “antimony,”.

b. “molybdenum,”.

c. “aniline,”.

d. “2,3,-dichloroaniline,”.

§ 437.35 [Amended]

14. Section 437.35 is amended by removing the following words:

a. “molybdenum,”.

b. “2,3,-dichloroaniline,”.

§ 437.36 [Amended]

15. Section 437.36 is amended by removing the following words:

a. “molybdenum,”.

b. “2,3,-dichloroaniline,”.

§ 437.42 [Amended]

16. Sections 437.42 is amended as follows:

a. In paragraph (b)(1) by removing the following entries in the BPT Limitations table, under the heading “Metal Parameters”:

i. Barium.

ii. Molybdenum.

iii. Selenium.

b. In paragraph (b)(1) by removing the following entries in the BPT Limitations table, under the heading “Organic Parameters”:

i. Aniline.

ii. 2,3-Dichloroaniline.

c. In paragraph (b)(1) by revising the entry for “Antimony” in the BPT Limitations table under the heading “Metal Parameters” to read as follows:

§ 437.42 Effluent limitations attainable by the application of the best practicable control technology currently available (BPT).

* * * * *

(b) * * *

(1) * * *

BPT Limitations
Regulated parameter | Maximum daily ¹ | Maximum monthly avg.¹
* * * * *
Metal Parameters
Antimony | 0.249 | 0.206
* * * * *
¹ mg/L (ppm).

* * * * *

d. In paragraph (b)(1) by revising the entry for “Titanium” in the BPT Limitations table under the heading “Metal Parameters” to read as follows:

§ 437.42 Effluent limitations attainable by the application of the best practicable control technology currently available (BPT).

* * * * *

(b) * * *

(1) * * *

BPT Limitations
Regulated parameter | Maximum daily ¹ | Maximum monthly avg.¹
* * * * *
Metal Parameters
* * * * *
Titanium | 0.0947 | 0.0618
* * * * *
¹ mg/L (ppm).

* * * * *

e. In paragraph (c)(1) by removing the following entries in the BPT Limitations table, under the heading “Metal Parameters”:

i. Barium.

ii. Molybdenum.

iii. Selenium.

f. In paragraph (c)(1) by revising the entry for “Antimony” in the BPT Limitations table under the heading “Metal Parameters” to read as follows:

§ 437.42 Effluent limitations attainable by the application of the best practicable control technology currently available (BPT).

* * * * *

(c) * * *

(1) * * *

BPT Limitations
Regulated parameter | Maximum daily ¹ | Maximum monthly avg.¹
* * * * *
Metal Parameters
Antimony | 0.249 | 0.206
* * * * *
¹ mg/L (ppm).

* * * * *

g. In paragraph (c)(1) by revising the entry for “Titanium” in the BPT Limitations table under the heading “Metal Parameters” to read as follows:

§ 437.42 Effluent limitations attainable by the application of the best practicable control technology currently available (BPT).

* * * * *

(c) * * *

(1) * * *

BPT Limitations
Regulated parameter | Maximum daily ¹ | Maximum monthly avg.¹
* * * * *
Metal Parameters
* * * * *
Titanium | 0.0947 | 0.0618
* * * * *
¹ mg/L (ppm).

* * * * *

h. Paragraph (d)(1) is amended by:

i. Revising the entry for “BOD5” in the BPT Limitations table under the heading “Conventional Parameters” as follows:

§ 437.42 Effluent limitations attainable by the application of the best practicable control technology currently available (BPT).

* * * * *

(d) * * *

(1) * * *

BPT Limitations
Regulated parameter | Maximum daily ¹ | Maximum monthly avg. ¹
Conventional Parameters
BOD5 | 163 | 53.0
* * * * *
¹ mg/L (ppm).

* * * * *

ii. Removing the following entries in the BPT Limitations table under the heading “Metal Parameters”:

A. Molybdenum.

B. Selenium.

iii. Removing the following entries in the BPT Limitations table under the heading “Organic Parameters”:

A. Aniline.

B. 2,3-Dichloroaniline.

i. Paragraph (e) is amended by removing the following entries in the BPT Limitations table under the heading “Metal Parameters”:

i. Antimony.

ii. Barium.

iii. Molybdenum.

iv. Titanium.

j. Paragraph (e) is amended by removing the following entries in the BPT Limitations table, under the heading “Organic Parameters”:

i. Aniline.

ii. 2,3-Dichloroaniline.

§ 437.44 [Amended]

17. Sections 437.44 is amended as follows:

a. In paragraph (b)(1) by removing the following entries in the table, under the heading “Metal Parameters”:

i. Barium.

ii. Molybdenum.

iii. Selenium.

b. In paragraph (b)(1) by removing the following entries in the table, under the heading “Organic Parameters”:

i. Aniline.

ii. 2,3-Dichloroaniline.

c. In paragraph (c)(1) by removing the following entries in the table, under the heading “Metal Parameters”:

i. Barium.

ii. Molybdenum.

iii. Selenium.

d. In paragraph (d)(1) by removing the following entries in the BAT Limitations table under the heading “Metal Parameters”:

i. Molybdenum.

ii. Selenium.

e. In paragraph (d)(1) by removing the entry for “Aniline” in the BAT Limitations table under the heading “Organic Parameters”:

f. In paragraph (e) by removing the following entries in the BAT Limitations table under the heading “Metal Parameters”:

i. Antimony.

ii. Barium.

iii. Molybdenum.

iv. Titanium.

g. In paragraph (e) by removing the following entries in the BAT Limitations table under the heading “Organic Parameters”:

i. Aniline.

ii. 2,3-Dichloroaniline.

§ 437.45 [Amended]

18. Sections 437.45 is amended as follows:

a. In paragraph (b)(1) by removing the following entries in the Performance Standards table, under the heading “Metal Parameters”:

i. Barium.

ii. Molybdenum.

b. In paragraph (b)(1) by removing the following entries in the Performance Standards table, under the heading “Organic Parameters”:

i. Aniline.

ii. 2,3-Dichloroaniline.

c. In paragraph (c)(1) by removing the following entries in the Performance Standards table, under the heading “Metal Parameters”:

i. Barium.

ii. Molybdenum.

d. In paragraph (d)(1) by removing the entry for “Molybdenum” in the Performance Standards table, under the heading “Metal Parameters.”

e. In paragraph (d)(1) by removing the following entries in the Performance Standards table, under the heading “Organic Parameters”:

i. Aniline.

ii. 2,3-Dichloroaniline.

f. In paragraph (e) by removing the following entries in the Performance Standards table under the heading “Metal Parameters”:

i. Antimony.

ii. Barium.

iii. Molybdenum.

iv. Titanium.

g. In paragraph (e) by removing the following entries in the Performance Standards table, under the heading “Organic Parameters”:

i. Aniline.

ii. 2,3-Dichloroaniline.

§ 437.46 [Amended]

19. Sections 437.46 is amended as follows:

a. In paragraph (b)(1) by removing the following entries in the Pretreatment Standards (PSES) table, under the heading “Metal Parameters”:

i. Barium.

ii. Molybdenum.

iii. Selenium.

b. In paragraph (b)(1) by revising the entry for “Antimony” in the Pretreatment Standards (PSES) table under the heading “Metal Parameters” to read as follows:

§ 437.46 Pretreatment Standards for Existing Sources (PSES).

* * * * *

(b) * * *

(1) * * *

Pretreatment Standards (PSES)
Regulated parameter | Maximum daily ¹ | Maximum monthly avg.¹
* * * * *
Metal Parameters
Antimony | 0.249 | 0.206
* * * * *
¹ mg/L (ppm)

* * * * *

c. In paragraph (b)(1) by removing the entry for “2,3-Dichloroaniline” in the Pretreatment Standards (PSES) table, under the heading “Organic Parameters.”

d. In paragraph (c)(1) by removing the following entries in the Pretreatment Standards (PSES) table, under the heading “Metal Parameters”:

i. Barium.

ii. Molybdenum.

iii. Selenuim.

e. In paragraph (c)(1) by revising the entry for “Antimony” in the Pretreatment Standards (PSES) table under the heading “Metal Parameters” to read as follows:

§ 437.46 Pretreatment Standards for Existing Sources (PSES).

* * * * *

(c) * * *

(1) * * *

Pretreatment Standards (PSES)
Regulated parameter | Maximum daily ¹ | Maximum monthly avg.¹
* * * * *
Metal Parameters
Antimony | 0.249 | 0.206
* * * * *
¹ mg/L (ppm).

* * * * *

f. In paragraph (d)(1) by removing the following entries in the Pretreatment Standards (PSES) table under the heading “Metal Parameters”:

i. Molybdenum.

ii. Selenium.

g. In paragraph (d)(1) by removing the entry for “2,3-Dichloroaniline” in the Pretreatment Standards (PSES) table under the heading “Organic Parameters.”

h. In paragraph (e) by removing the following entries in the Pretreatment Standards (PSES) table under the heading “Metal Parameters”:

i. Antimony.

ii. Barium.

iii. Molybdenum.

i. In paragraph (e) by removing the entry for “2,3-Dichloroaniline” in the Pretreatment Standards (PSES) table under the heading “Organic Parameters.”

§ 437.47 [Amended]

20. Section 437.47 is amended as follows:

a. In paragraph (b)(1) by removing the following entries in the Pretreatment Standards (PSNS) table, under the heading “Metal Parameters”:

i. Barium.

ii. Molybdenum.

iii. Selenium.

b. In paragraph (b)(1) by revising the entry for “Antimony” in the Pretreatment Standards (PSNS) table under the heading “Metal Parameters” to read as follows:

§ 437.47 Pretreatment Standards for New Sources (PSNS).

* * * * *

(b) * * *

(1) * * *

Pretreatment Standards (PSNS)
Regulated parameter | Maximum daily ¹ | Maximum monthy avg.¹
* * * * *
Metal Parameters
Antimony | 0.249 | 0.206
* * * * *
¹ mg/L (ppm).

* * * * *

c. In paragraph (b)(1) by removing the entry for “2,3-Dichloroaniline” in the Pretreatment Standards (PSNS) table, under the heading “Organic Parameters.”

d. In paragraph (c)(1) by removing the following entries in the Pretreatment Standards (PSNS) table, under the heading “Metal Parameters”:

i. Barium.

ii. Molybdenum.

iii. Selenium.

e. In paragraph (c)(1) by revising the entry for “Antimony” in the Pretreatment Standards (PSNS) table under the heading “Metal Parameters” to read as follows:

§ 437.47 Pretreatment Standards for New Sources (PSNS).

* * * * *

(c) * * *

(1) * * *

Pretreatment Standards (PSNS)
Regulated parameter | Maximum daily ¹ | Maximum monthy avg.¹
* * * * *
Metal Parameters
Antimony | 0.249 | 0.206
* * * * *
¹ mg/L (ppm).

* * * * *

f. In paragraph (d)(1) by removing the following entries in the Pretreatment Standards (PSNS) table under the heading “Metal Parameters”:

i. Molybdenum.

ii. Selenium.

g. In paragraph (d)(1) by removing the entry for “2,3-Dichloroaniline” in the Pretreatment Standards (PSNS) table under the heading “Organic Parameters.”

h. In paragraph (e) by removing the following entries in the Pretreatment Standards (PSNS) table under the heading “Metal Parameters”:

i. Antimony.

ii. Barium.

iii. Molybdenum.

i. In paragraph (e) by removing the entry for “2,3-Dichloroaniline” in the Pretreatment Standards (PSNS) table under the heading “Organic Parameters.”

[FR Doc. 03-31346 Filed 12-19-03; 8:45 am]

BILLING CODE 6560-50-P